DEPARTMENT OF TRANSPORTATION

Federal Aviation Administration

14 CFR Part 39

[Docket No. FAA-2012-1331; Directorate Identifier 2012-NE-44-AD]

RIN 2120-AA64

Airworthiness Directives; Rolls-Royce plc Turbojet Engines

AGENCY: Federal Aviation Administration (FAA), DOT.

ACTION: Notice of proposed rulemaking (NPRM).

SUMMARY: We propose to supersede airworthiness directive (AD) 2013-11-13 that applies to all Rolls-Royce plc (RR) Viper Mk. 601-22 turbojet engines. Since we issued AD 2013-11-13, RR determined that additional parts for the RR Viper Mk. 601-22 as well as additional engine models are affected. This proposed AD would add two new engine models and additional engine parts to the applicability. We are proposing this AD to prevent failure of life-limited parts, which could lead to an uncontained part release, damage to the engine, and damage to the airplane.

DATES: We must receive comments on this proposed AD by December 8, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact DA Services Operations Room at Rolls-Royce plc, Defense Sector Bristol, WH-70, P.O. Box 3, Filton, Bristol BS34 7QE, United Kingdom; phone: +44 (0) 117 97 90700; fax: +44 (0) 117 97 95498; email: defence-operations-room@rolls-royce.com. You may view this service information at the FAA, Engine & Propeller Directorate, 12 New England Executive Park, Burlington, MA 01803. For information on the availability of this material at the FAA, call 781-238-7125. It is also available on the Internet at http://www.regulations.gov by searching for and locating Docket No. FAA-2012-1331.

Examining the AD Docket

You may examine the AD docket on the Internet at http://www.regulations.gov by searching for and locating Docket No. FAA-2012-1331; or in person at the Docket Management Facility between 9 a.m. and 5 p.m., Monday through Friday, except Federal holidays. The AD docket contains this proposed AD, the mandatory continuing airworthiness information, regulatory evaluation, any comments received, and other information. The address for the Docket Office (phone: 800-647-5527) is in the ADDRESSES section. Comments will be available in the AD docket shortly after receipt.

FOR FURTHER INFORMATION CONTACT: Philip Haberlen, Aerospace Engineer, Engine Certification Office, FAA, Engine & Propeller Directorate, 12 New England Executive Park, Burlington, MA 01803; phone: 781-238-7770; fax: 781-238-7199; email: philip.haberlen@faa.gov.

SUPPLEMENTARY INFORMATION:

Comments Invited

We invite you to send any written relevant data, views, or arguments about this proposed AD. Send your comments to an address listed under the ADDRESSES section. Include “Docket No. FAA-2012-1331; Directorate Identifier 2012-NE-44-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

On May 28, 2013, we issued AD 2013-11-13, Amendment 39-17473 (78 FR 34550, June 10, 2013) (“AD 2013-11-13”), for all RR Viper Mk. 601-22 turbojet engines. AD 2013-11-13 requires reducing the life of certain critical parts. AD 2013-11-13 resulted from a review by RR of the lives of these parts. We issued AD 2013-11-13 to prevent failure of life-limited parts, which could lead to an uncontained part release, damage to the engine, and damage to the airplane.

Actions Since AD 2013-11-13 Was Issued

Since we issued AD 2013-11-13, RR determined that additional parts on the Viper Mk. 601-22 engine model and the Viper Mk. 521 and Mk. 522 engine models experienced the same unsafe condition. Also since we issued AD 2013-11-13, the European Aviation Safety Agency has issued AD 2015-0127R1, dated August 14, 2015, which requires reducing the cyclic life limits of the affected parts.

Related Service Information Under 1 CFR Part 51

We reviewed RR Alert Service Bulletin (ASB) Mk. 521 Number 72-A408, Circulation A, dated January 2015; ASB Mk. 521 Number 72-A408, Circulation B, dated January 2015; ASB Mk. 522 Number 72-A413, Circulation A, dated January 2015; ASB Mk. 522 Number 72-A412, Circulation B, dated January 2015; and ASB Mk. 601-22 Number 72-A207, dated January 2015. The service information describes procedures for determining applicable part numbers and revised cyclic life limits. This service information is reasonably available because the interested parties have access to it through their normal course of business or by the means identified in the ADDRESSES section of this NPRM.

FAA's Determination

We are proposing this AD because we evaluated all the relevant information and determined the unsafe condition described previously is likely to exist or develop in other products of the same type design.

Proposed AD Requirements

This NPRM would require accomplishing the actions specified in the service information described previously. This NPRM would add two engine models and additional affected parts to the applicability of AD 2013-11-13.

Costs of Compliance

We estimate that this proposed AD will affect about 46 engines installed on airplanes of U.S. registry. We also estimate a prorated parts cost of $66,000 per engine. We also estimate that it would take about 4 hours per engine to comply with this proposed AD. The average labor rate is $85 per hour. Based on these figures, we estimate the cost of this proposed AD on U.S. operators to be $3,051,640.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2013-11-13, Amendment 39-17473 (78 FR 34550, June 10, 2013) (“AD 2013-11-13”), and adding the following new AD:

Rolls-Royce plc (Type Certificate previously held by Rolls-Royce (1971) Limited, Bristol Engine Division): Docket No. FAA-2012-1331; Directorate Identifier 2012-NE-44-AD.

(a) Comments Due Date

We must receive comments by December 8, 2015.

(b) Affected ADs

This AD supersedes AD 2013-11-13.

(c) Applicability

This AD applies to all Rolls-Royce plc (RR) Viper Mk. 521, Viper Mk. 522, and Viper Mk. 601-22 turbojet engines.

(d) Unsafe Condition

This AD was prompted by a review by RR of the lives of certain critical parts. We are issuing this AD to prevent failure of life-limited parts, which could lead to an uncontained part release, damage to the engine, and damage to the airplane.

(e) Compliance

Comply with this AD within the compliance times specified, unless already done.

(1) Within 30 days after the effective date of this AD, or before any affected part exceeds its new revised life limit, whichever occurs later, remove any engine from service. Use Table 1 of RR Alert Service Bulletin (ASB) Mk. 521 Number 72-A408, Circulation A, dated January 2015; ASB Mk. 521 Number 72-A408, Circulation B, dated January 2015; ASB Mk. 522 Number 72-A413, Circulation A, dated January 2015; ASB Mk. 522 Number 72-A412, Circulation B, dated January 2015; and ASB Mk. 601-22 Number 72-A207, dated January 2015, to determine the new life limits.

(2) For the RR Viper Mk. 601-22 turbojet engine, remove compressor shaft, part number V900766, before the compressor shaft accumulates 20,720 flight cycles since new.

(f) Installation Prohibition

After the effective date of this AD, do not install any affected part identified in paragraph (e) of this AD into any engine, nor return any engine to service with any affected part identified in paragraph (e) of this AD installed, if any affected part exceeds the life limit specified in the appropriate ASB identified in paragraph (e)(1) and/or the life limit identified in paragraph (e)(2) of this AD.

(g) Alternative Methods of Compliance (AMOCs)

The Manager, Engine Certification Office, may approve AMOCs for this AD. Use the procedures found in 14 CFR 39.19 to make your request. You may email your request to: ANE-AD-AMOC@faa.gov.

(h) Related Information

(1) For more information about this AD, contact Philip Haberlen, Aerospace Engineer, Engine Certification Office, FAA, Engine & Propeller Directorate, 12 New England Executive Park, Burlington, MA 01803; phone: 781-238-7770; fax: 781-238-7199; email: philip.haberlen@faa.gov.

(2) Refer to MCAI European Aviation Safety Agency AD 2015-0127R1, dated August 14, 2015, for more information. You may examine the MCAI in the AD docket on the Internet at http://www.regulations.gov by searching for and locating Docket No. FAA-2012-1331.

(3) RR ASB Mk. 521 Number 72-A408, Circulation A, dated January 2015; ASB Mk. 521 Number 72-A408, Circulation B, dated January 2015; ASB Mk. 522 Number 72-A413, Circulation A, dated January 2015; ASB Mk. 522 Number 72-A412, Circulation B, dated January 2015; and ASB Mk. 601-22 Number 72-A207, dated January 2015, can be obtained from RR, using the contact information in paragraph (h)(4) of this proposed AD.

(4) For service information identified in this AD, contact DA Services Operations Room at Rolls-Royce plc, Defense Sector Bristol, WH-70, P.O. Box 3, Filton, Bristol BS34 7QE, United Kingdom; phone: +44 (0) 117 97 90700; fax: +44 (0) 117 97 95498; email: defence-operations-room@rolls-royce.com.

(5) You may view this service information at the FAA, Engine & Propeller Directorate, 12 New England Executive Park, Burlington, MA. For information on the availability of this material at the FAA, call 781-238-7125.

Issued in Burlington, Massachusetts, on October 2, 2015.
Colleen M. D'Alessandro,
Directorate Manager, Engine & Propeller Directorate, Aircraft Certification Service.

[FR Doc. 2015-25607 Filed 10-8-15; 8:45 am]

BILLING CODE 4910-13-P